FEDERAL MARITIME COMMISSION

Security for the Protection of the Public; Financial Responsibility to Meet Liability Incurrred for Death or Injury to Passengers or Other Persons on Voyages; Notice of Issuance of Certificate (Casualty)

Notice is hereby given that the following have been issued a Certificate of Financial Responsibility to Meet Liability Incurred for Death or Injury to Passengers or Other Persons on Voyages pursuant to the provisions of Section 2, Public Law 89-777 (46 App. U.S.C. 817 (d)) and the Federal Maritime Commission's implementing regulations at 46 CFR Part 540, as amended:

Ambassadors International, Inc.; Ambassadors Cruise Group, LLC, DQSC Operations, LLC d/b/a Delta Queen Steamboat Company; American West Steamboat Company LLC d/b/a American West Steamboat Company; DQ Boat, LLC; AQ Boat, LLC; MQ Boat, LLC; EN Boat LLC; and QW Boat Company LLC,

1071 Camelback Street,

Newport Beach, CA 92660.

Vessels: AMERICAN QUEEN, DELTA QUEEN, MISSISSIPPI QUEEN, EMPRESS OF THE NORTH, QUEEN OF THE WEST.

Carnival PLC and Princess Cruise Lines, Ltd., 24303 Town Center, Suite 200, Valencia, CA 91355-0908.

Vessel: ARTEMIS, ARCADIA.

HAL Nederland N.V., Holland America Line N.V., Holland America Line Inc., (d/b/a Holland America Line), and Carnival Corporation,

300 Elliott Avenue West,

Seattle, WA 98119.

Vessel: VEENDAM.

Holland America Line Inc. (d/b/a Holland America Line), Holland America Line, N.V. and HAL Antillen N.V.,

300 Elliott Avenue West,

Seattle, WA 98119.

Vessel: NOORDAM.

NCL (Bahamas) Ltd. d/b/a Norwegian Cruise Line and NCL America, and Ship Ventures, Inc.,

7665 Corporate Center Drive,

Miami, FL 33126.

Vessel: PRIDE OF HAWAII.

NYK Cruises Co., Ltd. and Azuka II Maritima S.A.,

3-2 Marunouchi 2-Chome, Chiyoda-Ku Tokyo 100-000 Japan.

Vessel: ASUKA II.

Princess Cruise Lines, Ltd. and Carnival PLC,

24305 Town Center Drive, Santa Clarita, CA 91355.

Vessel: CROWN PRINCESS.

Regent Seven Sea Cruises, Inc. and Radisson Severn Seas (FRANCE) N.C.,

1000 Corporate Drive,

Suite 500,

Fort Lauderdale, FL 33334.

Vessels: SEVEN SEAS MARINER.

Regent Seven Sea Cruises, Inc. and A & L CF December (1) Limited,

1000 Corporate Drive,

Suite 500,

Fort Lauderdale, FL 33334.

Vessels: SEVEN SEAS NAVIGATOR.

Regent Seven Sea Cruises, Inc. and Seadance Ltd.,

1000 Corporate Drive, Suite 500,

Fort Lauderdale, FL 33334.

Vessels: SEVEN SEAS VOYAGER.

Royal Caribbean Cruises Ltd. (d/b/a Royal Caribbean International),

1050 Caribbean Way,

Miami, FL 33132-2096.

Vessels: LEGEND OF THE SEAS, SPLENDOUR OF THE SEAS, FREEDOM OF THE SEAS.

West Travel, Inc. (d/b/a Cruise West d/b/a Alaska Sightseeing), and Clipper Cruise Line and Intrav, Inc.,

2301 Fifth Avenue,

Suite 401,

Seattle, WA 98121-1856.

Vessels: NANTUCKET CLIPPER, YORKTOWN CLIPPER.

Dated: July 25, 2006.
Bryant L. VanBrakle,
Secretary.

[FR Doc. E6-12458 Filed 8-1-06; 8:45 am]

BILLING CODE 6730-01-P